DEPARTMENT OF TRANSPORTATION

National Highway Traffic Safety Administration

Ford Petition for Exemption From the Vehicle Theft Prevention Standard; Correction

AGENCY: National Highway Traffic Safety Administration (NHTSA), Department of Transportation (DOT).

ACTION: Notice; correction.

SUMMARY: The National Highway Traffic Safety Administration (NHTSA) published a document in the Federal Register of May 28, 2010, granting in full Ford Motor Company's (Ford) petition for an exemption of its new Explorer vehicle line in accordance with 49 CFR part 543, Exemption from the Theft Prevention Standard. This document corrects certain aspects of the new Explorer vehicle line published in the “Summary” and “Supplemental Information” section. All previous information associated with the published notice remains the same.

FOR FURTHER INFORMATION CONTACT: Ms. Carlita Ballard, Office of International Policy, Fuel Economy and Consumer Programs, NHTSA, 1200 New Jersey Avenue, SE., Washington, DC 20590. Ms. Ballard's telephone number is (202) 366-0846. Her fax number is (202) 493-2990.

Correction

In the Federal Register of May 28, 2010, in FR Doc. 2010-12950, on page 30103, correct the second column, last sentence of the “Summary” section to read:

“The agency addressed Ford's request for confidential treatment by letter dated March 16, 2010.”

On page 30104, the first complete paragraph, line 16, correct the word “contol” to read “control.”

On page 30104, the first complete paragraph, last complete sentence, correct the sentence to read:

“Ford pointed out that in addition to the programmed key, the three modules that must be matched to start the vehicle adds even an additional level of security to the IAwPB device. In both devices, if the codes do not match, the vehicle will be inoperable.”

Issued on: June 11, 2010.
Stephen R. Kratzke,
Associate Administrator for Rulemaking.

[FR Doc. 2010-14570 Filed 6-16-10; 8:45 am]

BILLING CODE 4910-59-P